DEPARTMENT OF HEALTH AND HUMAN SERVICES

National Institutes of Health

Center for Scientific Review; Amended Notice of Meeting

Notice is hereby given of a change in the meeting of the Center for Scientific Review Special Emphasis Panel, June 25, 2004, 8:30 a.m. to June 25, 2004, 3 p.m., Latham Hotel, 3000 M Street, NW., Washington, DC 20007 which was published in the Federal Register on June 10, 2004, 69 FR 32600-32604.

The meeting will be held at the Omni Shoreham Hotel, 2500 Calvert Street, NW., Washington, DC 20008. The meeting date and time remain the same. The meeting is closed to the public.

Dated: June 22, 2004.
LaVerne Y. Stringfield,
Director, Office of Federal Advisory Committee Policy.

[FR Doc. 04-14737 Filed 6-29-04; 8:45 am]

BILLING CODE 4140-01-M